DEPARTMENT OF HEALTH AND HUMAN SERVICES

Centers for Disease Control and Prevention

[Program Announcement 01078]

Grant for Reducing Unintentional Injuries Among Children in Public Housing; Notice of Availability of Funds

A. Purpose

The Centers for Disease Control and Prevention (CDC) announces the availability of fiscal year (FY) 2001 funds for a grant to reduce unintentional injuries among children in public housing. This program addresses the “Healthy People 2010” focus area of Injury and Violence Prevention. The purpose of this program is to reduce the burden of unintentional injuries among children 14 years and younger who reside in public housing and communities through training and technical assistance to parents, other care-givers, and community leaders.

B. Eligible Applicants

Assistance will be provided only to the National SAFE KIDS Campaign, Washington, D.C. No other applications are solicited. FY 2001 federal appropriations specifically directs CDC to award funds to this organization.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $400,000 is available in FY 2001 to fund one award. It is expected that the award will begin on or about September 1, 2001, and will be made for a 12-month budget period within a one-year project period.

Use of Funds: funds may not be used for human subject research.

D. Where to Obtain Additional Information

For program technical assistance, contact: Tim Groza, MPA, Centers for Disease Control and Prevention, National Center for Injury Prevention and Control, 4770 Buford Highway N.E., Mailstop K63, Atlanta, GA 30341-3724, Telephone (770) 488-4676, Email: tgroza@cdc.gov.

To obtain business management technical assistance, contact: Angelia Hill, Grants Management Specialist, Grants Management Branch, Procurement and Grants Office, Announcement 01078, Centers for Disease Control and Prevention (CDC), 2920 Brandywine Road, Suite 3000, Atlanta, GA 30341-4146, Telephone (404) 488-2785, Email address aph8@cdc.gov.

Dated: April 17, 2001.
John L. Williams,
Director, Procurement and Grants Office, Centers for Disease Control and Prevention.

[FR Doc. 01-9930 Filed 4-20-01; 8:45 am]

BILLING CODE 4163-18-P